DEPARTMENT OF TRANSPORTATION

Office of the Secretary

Aviation Proceedings, Agreements Filed the Week Ending July 2, 2004

The following Agreements were filed with the Department of Transportation under the provisions of 49 U.S.C. 412 and 414. Answers may be filed within 21 days after the filing of the application.

Docket Number: OST-2004-18518.

Date Filed: June 28, 2004.

Parties: Members of the International Air Transport Association.

Subject: PTC3 0762 dated 28 June 2004, Mail Vote 395—Resolution 010m, TC3 Special Passenger Amending Resolution between Korea (Rep. of) and China (excluding Hong Kong SAR and Macao SAR) r1-r2, Intended effective date: 5 July 2004.

Docket Number: OST-2004-18529.

Date Filed: June 29, 2004.

Parties: Members of the International Air Transport Association.

Subject: PTC12 USA-EUR 0171 dated 22 June 2004, Mail Vote 392, TC12 North Atlantic USA-Europe (between USA and Austria, Belgium, Czech Republic, Finland, France, Germany, Italy, Netherlands, Scandinavia, Switzerland), PTC12 USA-EUR 0172 dated 25 June 2004, Mail Vote 391, TC12 North Atlantic USA-Europe (except between USA and Austria, Belgium, Czech Republic, Finland, France, Germany, Iceland, Italy, Netherlands, Scandinavia, Switzerland) r1-r34, Minutes—PTC12 USA-EUR 0173 dated 25 June 2004, Tables—PTC12 USA-EUR Fares 0090 dated 29 June 2004, Intended effective date: 1 November 2004.

Docket Number: OST-2004-18531.

Date Filed: June 29, 2004.

Parties: Members of the International Air Transport Association.

Subject: MV/PSC/080—AMENDED VERSION, RP 1724c / Resolution 724c—Notice of Liability Limitations, Air Carrier Liability for Passengers and Their Baggage—EC, Regulation 889/2002 r1, Intended effective date: 5 July 2004.

Docket Number: OST-2004-18532.

Date Filed: June 29, 2004.

Parties: Members of the International Air Transport Association.

Subject: PTC12 CAN-EUR 0104 dated 25 June 2004, Mail Vote 390, TC12 North Atlantic Canada-Europe r1-r16, Minutes: PTC12 CAN-EUR 0105 dated 25 June 2004, Tables: PTC12 CAN-EUR Fares 0039 dated 29 June 2004, Intended effective date: 1 November 2004.

Docket Number: OST-2004-18537.

Date Filed: June 30, 2004.

Parties: Members of the International Air Transport Association.

Subject: PTC2 ME 0136 dated 2 July 2004, TC2 Within Middle East Expedited Resolution 002m, Intended effective date: 15 August 2004.

Docket Number: OST-2004-18539.

Date Filed: June 30, 2004.

Parties: Members of the International Air Transport Association.

Subject: PTC2 EUR-ME 0186 dated 2 July 2004, TC2 Europe-Middle East Expedited Resolution 002gg r1-r9, Intended effective date: 15 August 2004.

Andrea M. Jenkins,
Program Manager, Docket Operations, Federal Register Liaison.

[FR Doc. 04-16722 Filed 7-21-04; 8:45 am]

BILLING CODE 4910-62-P